DEPARTMENT OF TRANSPORTATION

Surface Transportation Board

[Docket No. FD 35682]

Decatur Junction Railway Co.; Acquisition and Operation Exemption—Line of Illinois Central Railroad Company

AGENCY: Surface Transportation Board.

ACTION: Correction to notice of exemption.

On October 11, 2012, Decatur Junction Railway Co. (DJR), a Class III rail carrier, filed with the Surface Transportation Board a verified notice of exemption under 49 CFR 1150.41 to acquire from Illinois Central Railroad Company (IC), and to operate, approximately 4.4 miles of rail line between milepost 745.54 near Elwin and milepost 749.94 near Decatur, in Macon County, Ill. (the Line). On October 26, 2012, notice of the exemption was served and published in the Federal Register (77 Fed. Reg. 65,446). The exemption became effective on November 10, 2012.

On November 21, 2012, DJR filed a letter with the Board clarifying that the published notice incorrectly states that DJR currently leases from IC, and operates, 17 miles of rail line between milepost 745.54 near Elwin and milepost 728.0 near Assumption, Ill. This notice corrects that statement. According to DJR, it leases the 17-mile rail line from Central Illinois Shippers, Inc.¹ All other information in the notice is correct. In its letter, DJR advises that the transaction involving the acquisition of the 4.4-mile line was consummated on November 20, 2012.

¹ See Decatur Terminal Ry.—Lease and Operation Exemption—Lines in Illinois, FD 32365 (ICC served Oct. 18, 1993, as corrected Oct. 26, 1993).

Board decisions and notices are available on our Web site at “WWW.STB.DOT.GOV.”

Decided: December 11, 2012.
By the Board, Rachel D. Campbell, Director, Office of Proceedings.
Derrick A. Gardner,
Clearance Clerk.

[FR Doc. 2012-30398 Filed 12-17-12; 8:45 am]

BILLING CODE 4915-01-P